DEPARTMENT OF HOMELAND SECURITY

Coast Guard

33 CFR Part 100

[CGD05-04-211]

RIN 1625-AA08

Special Local Regulations for Marine Events; Southern Branch of the Elizabeth River, Portsmouth, VA

AGENCY: Coast Guard, DHS.

ACTION: Notice of implementation of regulation.

SUMMARY: The Coast Guard is implementing the special local regulations at 33 CFR 100.523 during the Olde Towne Holiday Music Festival Fireworks Show to be held December 11, 2004 on the Southern Branch of the Elizabeth River at Portsmouth, Virginia. These special local regulations are necessary to provide for the safety of life on navigable waters before, during and after the event. The effect will be to restrict general navigation in the regulated area for the safety of spectators and support vessels in the event area.

DATES: 33 CFR 100.523 will be enforced from 7 p.m. to 8 p.m. EDT on December 11, 2004.

FOR FURTHER INFORMATION CONTACT: Michael Bowling, Marine Events Coordinator, Commander, Coast Guard Group Hampton Roads, 4000 Coast Guard Blvd., Portsmouth, Virginia 23703, (757) 483-8567.

SUPPLEMENTARY INFORMATION: The City of Portsmouth will sponsor the “Olde Towne Holiday Music Festival Fireworks” on December 11, 2004 on the Southern Branch of the Elizabeth River, Portsmouth, Virginia. In order to ensure the safety of participants, spectators and transiting vessels, 33 CFR 100.523 will be enforced for the duration of the event. The special local regulations will be enforced from 7 p.m. to 8 p.m. e.d.t. on December 11, 2004. The pyrotechnic display will be launched from 1 barge located adjacent to Crawford Bay within the regulated area. Under the provisions of 33 CFR 100.523, a vessel may not enter the regulated area unless it receives permission from the Coast Guard Patrol Commander. Spectator vessels may anchor outside the regulated area but may not block a navigable channel.

In addition to this notice, the maritime community will be provided extensive advance notification via the Local Notice to Mariners, marine information broadcasts, and area newspapers, so mariners can adjust their plans accordingly.

Dated: November 24, 2004.
Ben R. Thomason, III,
Captain, U.S. Coast Guard, Commander, Fifth Coast Guard District, Acting.

[FR Doc. 04-26843 Filed 12-6-04; 8:45 am]

BILLING CODE 4910-15-P